DEPARTMENT OF TRANSPORTATION

Federal Aviation Administration

14 CFR Part 39

[Docket No. FAA-2010-0523; Directorate Identifier 2010-CE-018-AD]

RIN 2120-AA64

Airworthiness Directives; Hawker Beechcraft Corporation (Type Certificate No. A00010WI Previously Held by Raytheon Aircraft Company) Model 390 Airplanes

AGENCY: Federal Aviation Administration (FAA), Department of Transportation (DOT).

ACTION: Notice of proposed rulemaking (NPRM).

SUMMARY: We propose to adopt a new airworthiness directive (AD) for certain Hawker Beechcraft Corporation Model 390 airplanes. This proposed AD would require inspecting for installation of certain serial number (S/N) starter generators and replacing the starter generator if one with an affected serial number is found. This proposed AD results from reports that starter generators with deficient armature insulating materials may have been installed on certain airplanes. We are proposing this AD to detect and replace starter generators with defective armature insulating materials. This condition could result in the loss of operation of one or both starter generators with consequent loss of all non-battery electrical power.

DATES: We must receive comments on this proposed AD by July 6, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, 9709 East Central, Wichita, Kansas 67201; telephone: (316) 676-5034; fax: (316) 676-6614; Internet: https://www.hawkerbeechcraft.com/service_support/pubs/.

FOR FURTHER INFORMATION CONTACT: Kevin Schwemmer, Aerospace Engineer, FAA, Wichita Aircraft Certification Office, 1801 Airport Road, Room 100, Wichita, Kansas 67209; telephone: (316) 946-4174; fax: (316) 946-4107; e-mail: kevin.schwemmer@faa.gov.

SUPPLEMENTARY INFORMATION:

Comments Invited

We invite you to send any written relevant data, views, or arguments regarding this proposed AD. Send your comments to an address listed under the ADDRESSES section. Include the docket number, “FAA-2010-0523; Directorate Identifier 2010-CE-018-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports that certain serial number starter generators with deficient armature insulating materials may have been installed on Hawker Beechcraft Corporation Model 390 airplanes. Starter generators with deficient armature fabrication may result in loss of operation of one or both starter generators in flight.

This condition could result in the loss of operation of one or both starter generators with consequent loss of all non-battery electrical power.

Relevant Service Information

We have reviewed Hawker Beechcraft Mandatory Service Bulletin SB 24-3963, issued May 2009, and AMETEK Advanced Industries, Inc. Mandatory Service Bulletin—Number: 2009-0414, dated April 2009.

The service information describes procedures for:

• Inspection for starter generators with serial numbers that may have the deficient armature materials; and

• Removal and replacement of starter generators with the affected serial numbers.

FAA's Determination and Requirements of the Proposed AD

We are proposing this AD because we evaluated all information and determined the unsafe condition described previously is likely to exist or develop on other products of the same type design. This proposed AD would require an inspection for suspect starter generators and their replacement if found.

Costs of Compliance

We estimate that this proposed AD would affect 213 airplanes in the U.S. registry.

We estimate the following costs to do the proposed inspection:

Labor cost | Parts cost | Total cost per airplane | Total cost on U.S. operators
.5 work-hour × $85 per hour = $42.50 | Not applicable | $42.50 | $9,052.50

We estimate the following costs to do any necessary replacements that would be required based on the results of the proposed inspection. We have no way of determining the number of airplanes that may need this replacement:

Labor cost | Parts cost | Total cost per airplane
10 work-hours (5 work-hours per side) × $85 per hour = $850 | $4,069 per side = $8,138 | $8,988

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation (Type Certificate No. A00010WI Previously Held By Raytheon Aircraft Company): Docket No. FAA-2010-0523; Directorate Identifier 2010-CE-018-AD.

Comments Due Date

(a) We must receive comments on this airworthiness directive (AD) action by July 6, 2010.

Affected ADs

(b) None.

Applicability

(c) This AD applies to Model 390 airplanes, serial numbers RB-4 through RB-257, RB-259 through RB-265, RB-268, and RB-269, that are certificated in any category.

Subject

(d) Air Transport Association of America (ATA) Code 24: Electric Power.

Unsafe Condition

(e) This AD results from reports that starter generators with deficient armature insulating materials may have been installed on certain airplanes. We are issuing this AD to detect and replace starter generators with deficient armature insulating materials. This condition could result in the loss of operation of one or both starter generators with consequent loss of all non-battery electrical power.

Compliance

(f) To address this problem, you must do the following, unless already done:

Actions | Compliance | Procedures
(1) Inspect both starter generators for a starter generator with an affected serial number. | Within the next 25 hours time-in-service (TIS) after the effective date of this AD. | Follow Hawker Beechcraft Mandatory Service Bulletin SB 24-3963, dated May 2009; and AMETEK Advanced Industries, Inc. Mandatory Service Bulletin—Number: 2009-0414, dated April 2009.
(2) If only one suspect starter generator with an affected serial number is found on the airplane during the inspection required in paragraph (f)(1) of this AD, replace the starter generator. | Replace the starter generator at whichever of the following times occurs first after the inspection where the affected starter generator is found: (i) Within the next 200 hours TIS; | Follow Hawker Beechcraft Mandatory Service Bulletin SB 24-3963, dated May 2009; and AMETEK Advanced Industries, Inc. Mandatory Service Bulletin—Number: 2009-0414, dated April 2009.
| (ii) The next scheduled inspection; or
| (iii) Within the next 6 months.
(3) If two starter generators with an affected serial number are found during the inspection required in paragraph (f)(1) of this AD, replace both starter generators. | Replace one starter generator within the next 25 hours TIS after the inspection where the affected starter generator was found. Replace the second starter generator at whichever of the following times occurs first after the inspection where the affected starter generator is found: | Follow Hawker Beechcraft Mandatory Service Bulletin SB 24-3963, dated May 2009; and AMETEK Advanced Industries, Inc. Mandatory Service Bulletin—Number: 2009-0414, dated April 2009.
| (A) Within the next 200 hours TIS;
| (B) The next scheduled inspection; or
| (C) Within the next 6 months.
(4) Use the form (Figure 1 of this AD) to report the results of the inspections required in paragraph (f)(1) of this AD. The Office of Management and Budget (OMB) approved the information collection requirements contained in this regulation under the provisions of the Paperwork Reduction Act of 1980 (44 U.S.C. 3501 et seq.) and assigned OMB Control Number 2120-0056. | Within 10 days after the inspection required in paragraph (f)(1) of this AD. | Send the report to the FAA at the address specified in paragraph (g) of this AD.

FAA-2010-0523 Inspection Report
(If the inspection required in paragraph (f)(1) of this AD was done before the effective date of this AD, this report does not need to be completed and returned to the Wichita ACO)
Airplane Model |
Airplane Serial Number |
Airplane Tachometer Hours at Time of Inspection |
Right Hand Starter Generator serial number |
Left Hand Starter Generator serial number |
Does the RH Starter Generator fall within the suspect lot? | No | If yes, replace and document replacement starter generator serial number.
Does the LH Starter Generator fall within the suspect lot? | No | If yes, replace and document replacement starter generator serial number.
If both Starter Generators serial numbers fell within the suspect lot, was only one Starter Generator replaced? | No | If yes, describe and document which starter generator needs to be replaced.
Were any other discrepancies noticed during the inspection? |
Send report to:
Kevin Schwemmer, Aerospace Engineer, FAA, Wichita Aircraft Certification Office, 1801 Airport Road, Room 100, Wichita, KS 67209.
fax: (316) 946-4107.
e-mail: kevin.schwemmer@faa.gov.
Figure 1

Alternative Methods of Compliance (AMOCs)

(g) The Manager, Wichita Aircraft Certification Office (ACO), FAA, has the authority to approve AMOCs for this AD, if requested using the procedures found in 14 CFR 39.19. Send information to ATTN: Kevin Schwemmer, Aerospace Engineer, FAA, Wichita ACO, 1801 Airport Road, Room 100, Wichita, Kansas 67209; telephone: (316) 946-4174; fax: (316) 946-4107; e-mail: kevin.schwemmer@faa.gov. Before using any approved AMOC on any airplane to which the AMOC applies, notify your appropriate principal inspector (PI) in the FAA Flight Standards District Office (FSDO), or lacking a PI, your local FSDO.

Related Information

(h) To get copies of the service information referenced in this AD, contact Hawker Beechcraft Corporation, 9709 East Central, Wichita, Kansas 67201; telephone: (316) 676-5034; fax: (316) 676-6614; Internet: https://www.hawkerbeechcraft.com/service_support/pubs/. To view the AD docket, go to U.S. Department of Transportation, Docket Operations, M-30, West Building Ground Floor, Room W12-140, 1200 New Jersey Avenue, SE., Washington, DC 20590, or on the Internet at http://www.regulations.gov.

Issued in Kansas City, Missouri, on May 14, 2010.
Kim Smith,
Manager, Small Airplane Directorate, Aircraft Certification Service.

[FR Doc. 2010-12300 Filed 5-20-10; 8:45 am]

BILLING CODE 4910-13-P